DEPARTMENT OF DEFENSE

Office of the Secretary

[Transmittal No. 18-16]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-16 with attached Policy Justification.

Dated: September 17, 2018.
Shelly E. Finke,
Alternate OSD Federal Register Liaison Officer, Department of Defense.

BILLING CODE 5001-06-P

BILLING CODE 5001-06-C

Transmittal No. 18-16

Notice of Proposed Issuance of Letter of Offer Pursuant to Section 36(b)(1) of the Arms Export Control Act, as amended

(i) Prospective Purchaser: Government of Kuwait

(ii) Total Estimated Value:

Major Defense Equipment * | $24.1 million
Other | $16.3 million
Total | $40.4 million

(iii) Description and Quantity or Quantities of Articles or Services under Consideration for Purchase:

Major Defense Equipment (MDE):

One thousand twenty (1,020) Mk-82 500 lb. bombs

One thousand two (1,002) Mk-83 1000 lb. bombs

Six hundred (600) Mk-84 2000 lb. bombs

Non-MDE:

Also included in the sale are general purpose bomb components and fuzes, support and test equipment, publications and technical documentation, personnel training and training equipment, transportation, facilities and construction, U.S. Government and contractor technical and logistics support services, and other related elements of logistic and program support.

(iv) Military Department: Air Force (KU-D-AAC)

(v) Prior Related Cases, if any: KU-P-AAY (Navy/1992)—$22M

(vi) Sales Commission, Fee, etc., Paid, Offered, or Agreed to be Paid: None

(vii) Sensitivity of Technology Contained in the Defense Article or Defense Services Proposed to be Sold: None

(viii) Date Report Delivered to Congress: August 2, 2018

* As defined in Section 47(6) of the Arms Export Control Act.

POLICY JUSTIFICATION

Kuwait—Munitions

The Government of Kuwait has requested to buy one thousand twenty (1,020) Mk-82 500 lb. bombs, one thousand two (1,002) Mk-83 1000 lb. bombs and six hundred (600) Mk-84 2000 lb. bombs. Also included in the sale are general purpose bomb components and fuzes, support and test equipment, publications and technical documentation, personnel training and training equipment, transportation, facilities and construction, U.S. Government and contractor technical and logistics support services, and other related elements of logistic and program support. The estimated cost is $40.4 million.

This proposed sale will contribute to the foreign policy and national security of the United States by helping to improve the security of a regional partner which is an important force for political stability and economic progress.

The proposed sale will improve Kuwait's capability to meet current and future threats within the region. Kuwait intends to use these munitions with its current fleet of F/A-18 aircraft. Kuwait will have no difficulty absorbing these munitions and support into its armed forces.

The proposed sale of this equipment and support will not alter the basic military balance in the region.

The U.S. Air Force will award contracts when necessary to provide the defense articles ordered if items ordered are not available from U.S. stock or are considered lead-time away. There are no known offset agreements proposed in connection with this potential sale.

Implementation of this proposed sale will not require the assignment of additional U.S. Government or contractor representatives to Kuwait.

There will be no adverse impact on U.S. defense readiness as a result of this proposed sale.

[FR Doc. 2018-20518 Filed 9-20-18; 8:45 am]

BILLING CODE 5001-06-P